OFFICE OF PERSONNEL MANAGEMENT

5 CFR Part 532

RIN 3206-AJ35

Prevailing Rate Systems; Definition of San Joaquin County, CA, as a Nonappropriated Fund Wage Area

AGENCY: Office of Personnel Management.

ACTION: Interim rule with request for comments.

SUMMARY: The Office of Personnel Management (OPM) is issuing an interim rule that will define San Joaquin County, California, as a new nonappropriated fund (NAF) Federal Wage System (FWS) wage area. San Joaquin County is currently in the Sacramento, California, NAF FWS wage area. This change is necessary because the Army and Air Force Exchange Service built a new distribution facility in San Joaquin County that now has a large number of NAF FWS employees.

DATES: Effective Date: This interim rule is effective on January 23, 2002. Applicability Date: Agencies will place NAF FWS employees in San Joaquin County on the new San Joaquin wage schedule on the first day of the first applicable pay period beginning on or after April 13, 2002. Comments must be received by February 22, 2002.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: William T. Beacham, (202) 606-2848, FAX: (202) 606-4264, or email wtbeacha@opm.gov.

SUPPLEMENTARY INFORMATION: The Office of Personnel Management (OPM) is defining San Joaquin County, California, as a new nonappropriated fund (NAF) Federal Wage System (FWS) wage area. San Joaquin County is currently defined as an area of application to the Sacramento, CA, NAF FWS wage area. The Army and Air Force Exchange Service (AAFES) built a new distribution facility, which has about 450 NAF FWS employees. Under section 5343(a) of title 5, United States Code, NAF FWS wage area boundaries may not extend beyond the immediate locality where NAF employees work. OPM may establish an NAF wage area under § 532.219 of title 5, Code of Federal Regulations, when there is a minimum of 26 NAF wage employees in a survey area and there is sufficient private employment within the survey area to provide adequate data for establishing an NAF wage schedule.

San Joaquin County meets the regulatory criteria to be a separate NAF wage area. Under § 532.219, there must be a minimum of 1,800 private enterprise employees in establishments within the scope of an NAF survey for a separate wage area to be established. San Joaquin County has more than 139,000 private enterprise employees in surveyable establishments.

The Sacramento NAF wage area continues to meet the criteria under 5 CFR 532.219 to remain a separate NAF FWS wage area. No other counties in the Sacramento NAF FWS wage area are affected by the removal of San Joaquin County from the Sacramento wage area. The Federal Prevailing Rate Advisory Committee, the national labor-management committee responsible for advising OPM on matters concerning the pay of FWS employees, recommended this change by consensus. The first local wage survey for the new San Joaquin wage area will begin in February 2002. NAF FWS employees in San Joaquin County will be placed on the new San Joaquin wage schedule on the first day of the first applicable pay period beginning on or after April 13, 2002, the effective date of the new wage schedule.

Waiver of Notice of Proposed Rulemaking

Pursuant to section 553(b)(3)(B) of title 5, United States Code, I find that good cause exists for waiving the general notice of proposed rulemaking. The notice is being waived because it is necessary to define San Joaquin County, CA, to an NAF wage area as soon as possible to set pay for NAF FWS employees in San Joaquin County on the basis of local prevailing rates.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

Office of Personnel Management.
Kay Coles James,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subart B of Part 532—Nationwide Schedule of Nonappropriated Fund Regular Wage Surveys [Amended]

2. Appendix B to subpart B is amended by adding under the State of California, after San Francisco, “San Joaquin” to the wage area listing, with the beginning month as “February” and the fiscal year of full-scale survey as “even.”

3. Appendix D to subpart B is amended by revising the wage area listing for Sacramento, California, by removing “San Joaquin” from the area of application and adding “San Joaquin” as a new nonappropriated fund wage area, after “San Francisco,” to read as follows:

Appendix D to Subpart B of Part 532—Nonappropriated Fund Wage and Survey Areas

* * * * *

DEFINITIONS OF WAGE AND WAGE SURVEY AREAS

* * * * *

CALIFORNIA

* * * * *

SAN JOAQUIN

Survey area

California:

San Joaquin

Area of Application. Survey area.

* * * * *

[FR Doc. 02-1605 Filed 1-22-02; 8:45 am]

BILLING CODE 6325-39-U